DEPARTMENT OF HOMELAND SECURITY

Coast Guard

33 CFR Part 165

[CGD07-05-138]

RIN 1625-AA11

Regulated Navigation Area: Savannah River, Savannah, GA

AGENCY: Coast Guard, DHS.

ACTION: Interim rule with request for comments.

SUMMARY: On January 23, 2006, the Coast Guard published a notice of proposed rulemaking (NPRM) to revise the regulated navigation area in Savannah, Georgia, to address changes in Liquefied Natural Gas (LNG) tankship mooring locations following the creation of two new berths within a slip at the Southern LNG facility on the Savannah River. The previous rule only addressed facility and vessel requirements when an LNG vessel was underway or was moored parallel to the navigational channel outside of the slip. This interim rule describes requirements for three different potential mooring situations following the expansion: an LNG tankship moored outside of the slip, one or more LNG tankships moored inside the slip, and LNG tankships moored both inside and outside of the slip. This interim rule will become effective on February 20, 2007. However, we still encourage you to participate in this rulemaking by submitting comments and related material to the docket. We will accept comments for 60 days from the date this rule is published in the Federal Register, after which we intend to publish a final rule. Any comments received will be considered in the final rule. This interim rule is necessary to ensure safe navigation of the Savannah River and the safe transfer of LNG in the Port of Savannah.

DATES: This interim rule is effective February 20, 2007. Comments and related material must reach the Coast Guard on or before March 20, 2007.

ADDRESSES: Comments and material received from the public, as well as documents indicated in this preamble as being available in the docket [CGD07-05-138], will become part of this docket and will be available for inspection or copying at Marine Safety Unit Savannah, Gordon Low Federal Building, Suite 1017, 100 W. Oglethorpe, Savannah, Georgia 31401, between 7:30 a.m. and 4:30 p.m., Monday through Friday, except Federal holidays.

FOR FURTHER INFORMATION CONTACT: Lieutenant Robert Webb, Waterways Management Officer, Marine Safety Unit Savannah; (912) 652-4353.

SUPPLEMENTARY INFORMATION:

Regulatory Information

On January 23, 2006, we published a notice of proposed rulemaking (NPRM) entitled “Regulated Navigation Area: Savannah River, Savannah, GA” (71 FR 3442). To ensure the safe transfer of liquefied Natural Gas in the port of Savannah, we are publishing this interim rule that will become effective February 20, 2007. However, we still encourage you to participate in this rulemaking by submitting comments and related material to the docket. We will accept comments for 60 days after which we intend to consider received comments and publish a final rule. If you submit comments, please include your name and address, identify the docket number for this rulemaking [CGD07-05-138], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this interim rule in view of them.

Public Meeting

We do not plan to hold a public meeting on the interim rule. But you may submit a request for a meeting by writing to MSU Savannah (see ADDRESSES above) explaining why one would be beneficial. If we determine that one would aid this rulemaking, we will hold one at the time and place announced by a later notice in the Federal Register. We did not receive a request for a public meeting in response to the notice of proposed rulemaking and we did not hold a public meeting.

Background and Purpose

In May of 2002, Southern LNG Inc. submitted a letter of intent to expand the LNG facility on Elba Island that would nearly double LNG storage capacity and substantially increase the number of LNG tankship arrivals. The Coast Guard's positive endorsement was contingent upon the relocation of the primary LNG mooring facility in order to reduce the risk of allision and subsequent breaching of an LNG tankship's cargo tank(s). To meet this Coast Guard requirement, Southern LNG Inc. initiated a project to create a protected docking slip designed to allow simultaneous LNG transfers from vessels. This expansion, completed early in 2006, significantly reduced the level of risk associated with LNG tankship operations and vessels passing by the LNG facility. This interim rule addresses the three possible tankship mooring configurations now available to LNG tankships. The three possible tankship mooring configurations available to LNG tankships are LNG vessels moored inside the slip, outside the slip, and a combination of inside and outside the slip.

Discussion of Comments and Changes to the Proposed Rule

A single commentor submitted several comments to the Coast Guard during the NPRM comment period (71 FR 3442). Several comments stated that the requirement for standby tugs should be eliminated as unnecessarily duplicative of the new slip and the infrastructure and procedures already in place to prevent an LNG spill. The Coast Guard does not believe the use of standby tugs is duplicative. The use of standby tugs to attend moored LNG vessels is a common practice in the LNG industry with the tugs having the general duties of providing a ready means of assistance to maintain a safe area around the LNG vessel, provide emergency firefighting assistance, and aid the LNG vessel in the event of an emergency departure. For example, Coast Guard Sector Baltimore requires one tractor tug to be on scene and two tractor tugs to be on a 10-minute standby. Also, the vessel operators and/or LNG facility in the ports of Lake Charles and Ponce, Louisiana, require standby tugs although there is no Coast Guard requirement.

Due to the Southern LNG facility's location on the Savannah River, approximately 8 nautical miles from the busiest area of the port, it is unlikely that tug assistance could arrive in a reasonable amount of time or guarantee that they would be available at all in the event of an emergency if tugs are not dedicated to standby duties in the immediate vicinity of the moored LNG tankship. Therefore, the requirement for two standby towing vessels to take appropriate actions in an emergency remains. Additionally, the definition of standby was slightly modified to mean readily available at the facility and equipped to provide a ready means of assistance to maintain a safe zone around LNG tankships, provide emergency firefighting assistance, and aid the LNG tankship in the event of an emergency departure. This change makes it clear that the standby towing vessels should remain at the facility unless they are assisting a passing vessel in distress.

A requirement for at least one LNG escort towing vessel and at least one standby towing vessel to be FiFi Class 1 equipped was added to ensure adequate fire fighting capabilities. In the case where one LNG tankship is moored at the facility and another LNG tankship is inbound to the facility, one FiFi Class 1 equipped towing vessel shall remain at the facility along with another standby towing vessel not so equipped while another FiFi Class 1 equipped towing vessel shall escort the inbound LNG tankship to the facility along with another escort towing vessel not so equipped. The Coast Guard believes this requirement produces the least risk to the port and takes into account the limited local availability of FiFi Class 1 equipped towing vessels. The requirement for a third towing vessel is eliminated when vessels are moored within the LNG facility slip.

Three comments from the commentor stated that the Southern LNG facility is a receiving terminal only and that the “marine-side” services, such as docking, line handling, search and rescue, and towing are specifically not provided under the LNG facility tariff on file with the Federal Energy Regulatory Commission (FERC). Therefore, the LNG facility should not be held responsible for providing the towing vessels required by this regulation. The Coast Guard has changed the rule to specify that an LNG tankship must have towing vessels on-scene when moored at an LNG facility. The provisions in section 165.756(d) are no longer directed at LNG facility operators. These changes provide greater consistency with other provisions in Part 165.

Three comments from the commentor noted that the duties of the standby towing vessels outlined in paragraph (d)(3) of 33 CFR 165.756 are vague. The Coast Guard agrees with this assertion and has added the following language to the definition for stand-by , “means readily available at the facility and equipped to provide a ready means of assistance to maintain a safe zone around the moored LNG tankship, to provide emergency firefighting assistance, to aid the LNG tankship in the event of an emergency departure, or to take other appropriate actions in an emergency as necessary.” To clearly outline the type of towing vessels that are required for the standby duties described in this regulation, additional language was also added to outline the minimum firefighting capabilities of at least one of the standby towing vessels.

Two comments from the commentor stated that moving the LNG vessels from the river pier to the protected LNG facility slip has made the standby towing vessels unnecessary because the new mooring configuration has eliminated the potential for a passing vessel to allide with a moored LNG tankship causing an LNG spill. The Coast Guard carefully considered this assessment and disagrees. Although the risk has been reduced, there is still a risk of allision while LNG tankships are moored within the LNG facility slip. If a passing vessel loses power and/or steering, it is possible for it to enter the slip and allide with the moored LNG tankship. The existence of the two standby towing vessels allows the passing vessel in distress to request immediate assistance that may prevent an allision and possible LNG spill. Additionally, the standby towing vessels provide a ready means of assistance to maintain a safe area around the LNG vessel, provide emergency firefighting assistance, and aid the LNG vessel in the event of an emergency departure. Therefore, the requirement for two standby towing vessels remains.

One comment from the commentor stated the standby towing vessels are not needed to prevent ranging of the LNG tankship at its mooring due to the surge caused by a passing vessel. This assertion was recently proven false when the surge created by a large vessel passing the LNG facility slip at excessive speed caused a moored LNG tankship to range and resulted in the emergency shutdown of the LNG transfer and caused several of the LNG tankship's mooring lines to break. Automatic emergency shutoffs prevented the release of LNG and the standby tugs immediately assisted the LNG tankship back to its original position where it was secured with additional mooring lines. While this occurrence may be unusual, it illustrates that standby towing vessels are valuable assets in the event of an emergency. This occurrence adds support to our decision to keep the requirement for two standby towing vessels.

One comment from the commentor stated that the Coast Guard should monitor the speed of passing vessels through a remote monitoring system such as the Automated Information System (AIS). At this time, the local Coast Guard shore units cannot access the AIS information and do not have sufficient personnel resources to monitor such a system on a 24 hour basis. However, the incident described in the above paragraph highlights the risk posed by vessels passing the LNG facility slip at excessive speed. Therefore the “minimum safe speed” language in paragraph (d)(5)(ii) of the proposed rule has been replaced with “bare steerage way” in paragraph (d)(6)(iv) of the interim rule to eliminate any confusion that passing vessels must make every effort to minimize their surge as they pass the LNG facility slip were an LNG tankship is moored.

One comment stated that the requirement for emergency towing wires, also known as fire wires, apply only to LNG tankships moored at the river dock. The Coast Guard disagrees with this comment and the requirement for emergency towing wires remains in all mooring configurations unless the LNG tankship is equipped with waterline bollards. Language was added that exempts LNG tankships equipped with waterline bollards from this requirement. The Coast Guard believes that waterline bollards provide an equivalent level of safety and allow for standby towing vessels to quickly “make-up” to an LNG tankship in the event of an emergency.

One comment from the commentor stated that the standby towing vessels are not necessary to assist in the emergency departure of a moored LNG tankship from the slip because the LNG tankship will likely be safest at its mooring even in the event of an emergency within the facility. The Coast Guard disagrees with this assertion. Industry publications state that in the case of an internal emergency within the terminal, it is often good practice to remove ships from the berths in order to avoid their possible involvement in the situation. Such emergencies may include a fire on the facility or an imminent terrorist threat to the facility that may prompt the Captain of the Port or the master of an LNG tankship to order departure of the vessel from the LNG facility slip or pier immediately. Therefore, the requirement for two standby towing vessels remains.

One additional comment from the commentor requested relief from the towing vessel escort requirements for an outbound vessel in a “heel” condition. The Coast Guard carefully considered this request and believes that LNG vessels carrying only “heel” pose a minimal risk of an LNG spill. Therefore, we included language in the interim rule that removes the requirement to escort LNG vessels in heel when transiting within the Regulated Navigation Area. The definition of heel “is the minimum quantity of liquefied natural gas (LNG) retained in an LNG tankship after unloading at the LNG facility to maintain temperature, pressure, and/or prudent operations. [A] quantity of LNG less than five percent (5%) of the LNG tankship's carrying capacity shall be presumed to be heel.” This same reasoning led us to remove the restrictions on other vessels while the LNG tankship is outbound in a heel condition. Vessels over 200 gross tons will have a pilot aboard who will know that the outbound LNG tankship is in a heel condition. All other vessels will follow the navigation rules and treat the outbound LNG vessel just as any other deep-draft vessel transiting the Savannah River.

Finally, several comments by the commentor also included support for the provisions in the proposed rule. One comment supported keeping unnecessary vessels out of the LNG facility slip. This provision remains in the interim rule. One comment supported limiting passing vessels to minimum safe speed. This provision remains in the interim rule, but the language was changed to “bare steerage way” to eliminate any confusion over a definition of “minimum safe speed.” One comment supported eliminating broadcast notices of LNG transits. This provision remains in the interim rule. One comment supported allowing oral waivers. This provision also remains in the interim rule.

Discussion of Interim Rule

The interim rule accounts for all three potential mooring arrangements within the LNG facility slip. All of these requirements are needed to reduce the risk associated with marine LNG transfer operations. On-scene standby towing vessels will allow for immediate action in an emergency involving an LNG tankship, the LNG facility, or a vessel passing a moored LNG tankship conducting transfer operations. They will also be available to provide a ready means of assistance to maintain a safe zone around a moored carrier and to provide emergency firefighting support in the event of a fire.

When an LNG tankship is moored outside of the slip, the towing vessel requirement of 3 towing vessels as outlined in the Notice of Proposed Rulemaking published in January 2006 remains unchanged. Additionally, the LNG tankship will be required to provide at least one standby towing vessel with a minimum of 90,000 pounds of bollard pull to take appropriate actions in an emergency as directed by the LNG vessel bridge watch. However, one of the two escort towing vessels shall be FiFi Class 1 equipped, and the escort towing vessels shall have a minimum capacity of 100,000 pounds of bollard pull, 4,000 horsepower and capable of safely operating in the indirect mode in order to escort transiting vessels 1,600 gross tons or greater past the moored LNG tankship.

When an LNG tankship is moored inside the new slip, the requirement for tethered escorts is removed. However, an LNG tankship will still be required to have two standby towing vessels with a minimum capacity of 100,000 pounds of bollard pull, 4,000 horsepower, and the ability to operate safely in the indirect mode in order to take appropriate actions in an emergency. At least one of these standby towing vessels shall be FiFi Class 1 equipped. These on scene towing vessels shall respond to any emergency situation for the LNG tankship moored within the slip occurring at the facility or caused by vessels transiting the Savannah River past the LNG facility. When two LNG tankships are moored inside the slip each vessel shall provide a standby towing vessel that is FiFi class 1 equipped with a minimum capacity of 100,000 pounds of bollard pull and 4,000 horsepower.

When an LNG tankship is moored inside the new slip and another LNG tankship is moored outside of the slip, a minimum of three towing vessels are required. The LNG tankship moored outside the slip shall provide two escort towing vessels each with a minimum of 100,000 pounds of bollard pull, 4,000 horsepower and capable of safely operating in the indirect mode in order to escort transiting vessels 1,600 gross tons or greater past the moored LNG tankship. The LNG tankship moored inside the slip shall have at least one standby towing vessel with a minimum of 100,000 pounds of bollard pull, 4,000 horsepower and FiFi Class 1 equipped to take appropriate actions in an emergency as directed by the LNG vessel bridge watch.

When one LNG tankship is moored outside and two LNG tankships are moored inside the LNG facility slip, the LNG tankship moored outside of the LNG facility slip shall have on-scene a minimum of two escort towing vessels each with a minimum of 100,000 pounds of bollard pull, 4,000 horsepower and capable of safely operating in the indirect mode in order to escort transiting vessels 1,600 gross tons or greater past the moored LNG tankship. At least one of these towing vessels shall be FiFi Class 1 equipped. In addition, the LNG tankships moored inside of the slip shall have at least one standby towing vessel between the two ships with a minimum of 100,000 pounds of bollard pull, 4,000 horsepower and FiFi Class 1 equipped to take appropriate actions in an emergency as directed by the LNG vessel bridge watch.

Security operations have been added to the list of operations that are exempt from the applicability of this rule. This will allow facility owned or operated security vessels and local state and local law enforcement vessels to operate freely within the RNA.

To limit delays to other vessels operating within the RNA, § 165.756(d)(1)(i) has been slightly modified to allow vessels of 1,600 gross tons or greater to pass the facility while the LNG tankships are maneuvering and mooring, as long as the LNG vessels are outside of the Savannah River shipping channel (i.e., inside of the slip) and the other ships are proceeding past the slip at bare steerage way.

In the interest of security, paragraph (d)(1)(iii)(C) was removed because it drew undue attention to LNG tankships transiting the area without increasing navigational safety. However, new language has been added for vessels 1,600 gross tons or greater while in the RNA to make a broadcast on channel 13 at the following points on the Savannah River: (a) Buoy “33” in the vicinity of Fields Cut for inbound vessels and (b) Buoy “53” in the vicinity of Fort Jackson for outbound vessels. This language was added to improve communications in the interest of safety and to reduce the risk of damage to moored LNG vessels or the facility due to surge or casualty of passing vessels. The subsequent paragraphs have been appropriately redesignated.

A requirement for emergency towing wires (fire wires) was added in paragraph (d)(5)(ii) to follow standard industry practice and ensure the vessels are immediately available for emergency towing. LNG vessels equipped with waterline bollards are exempt from this requirement.

Due to anticipated and observed hydrodynamic effects on the water within the LNG slip, vessel operating restrictions were added in paragraph (d)(6)(iv) to ensure safe LNG transfer operations.

In the interest of safety and security, paragraph (d)(6)(vii) was added to prevent unnecessary vessels from entering the LNG slip.

In the interest of port security, this interim rule also eliminates the Captain of the Port requirement to issue a Broadcast Notice to Mariners on scheduled LNG tankship activities during which the restrictions imposed by this section are in effect. The level of safety introduced by broadcasting LNG tankship schedules to the general public via marine radio does not outweigh the potential security impacts. River pilots who operate all vessels over 200 gross tons on the Savannah River are well aware of the LNG tankship transit times. While transiting within the RNA, the LNG tankships carrying LNG in excess of heel will be escorted by towing vessels and security vessels that can effect notice of this rule to any vessels not requiring a river pilot.

To further define when the RNA is in effect the following was added to paragraph (a) of the proposed rule, “when a LNG tankship in excess of heel is transiting the area or moored at the LNG facility.”

To ensure the timeliness of response operations and maximize safety and security, the waiver authority in this rule has been modified to allow verbal or written waivers by the Captain of the Port to the requirements of this rule.

Administrative Procedure Act

We are making this interim rule effective 30 days after publication in the Federal Register. Delaying implementation of this rule any longer to await public notice and comment would be contrary to the public interest because of the adverse effect on the safety of navigation in the Savannah River, vessel congestion, and the safety and security of LNG transfer operations in the port.

However, we want to receive comments on the changes from the proposed rule before issuing a final rule. Please submit your comment on this interim rule on or before March 20, 2007. We may revise the rule based on your comments.

Regulatory Evaluation

This rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Homeland Security.

Delays for inbound and outbound traffic due to LNG transits will be reduced through this interim rule and through pre-transit conferences between the pilots and the Coast Guard Captain of the Port. Additional financial benefits of this rule are that LNG tankships transiting in heel will not be required to have two escort towing vessels and LNG tankships moored only inside the LNG facility slip will only be required to provide 2 standby towing vessels vice the current requirement of 3 towing vessels.

The requirement of having one of the escort towing vessels be FiFi Class 1 equipped does not impose an additional financial burden due to a FiFi Class 1 escort towing vessel is currently being utilized for this purpose.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. The LNG facility does not qualify as a small entity. Towing vessels may qualify as small entities; however the economic impact incurred will be borne by the LNG tankships.

The Coast Guard certifies under 5 U.S.C. 605(b) that this rule will not have a significant economic impact on a substantial number of small entities. Delays for inbound and outbound traffic due to LNG transits will be minimized through this change and through pre-transit conferences between the pilots and the Coast Guard Captain of the Port. The RNA requirements are less burdensome for smaller vessels, which are more likely to be small entities; however, there would not be a significant economic impact.

If you think that your business, organization, or governmental jurisdiction qualifies as a small entity and that this rule would have significant economic impact on it, please submit a comment (see ADDRESSES) explaining why you think it qualifies and how and to what degree this rule would economically affect it.

Assistance for Small Entities

Under section 213(a) of the Small Business Regulatory Enforcement Fairness Act of 1996 (Pubic Law 104-121), we want to assist small entities in understanding this proposal so that they could better evaluate its effects on them and participate in the rulemaking. If the rule would affect your small business and you have questions concerning its provisions or options for compliance, please contact the person listed under FOR FURTHER INFORMATION CONTACT. Small businesses may also send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this interim rule would not result in such an expenditure, we do discuss the effects of this rule elsewhere in this preamble.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Division 5100.0, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. A final “Environmental Analysis Check List” and a final “Categorical Exclusion Determination” are available in the docket where indicated under ADDRESSES.

List of Subjects in 33 CFR Part 165

Harbors, Marine safety, Navigation (water), Reporting and record keeping requirements, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. Revise § 165.756 to read as follows:

§ 165.756 Regulated Navigation Area; Savannah River, Georgia.

(a) Regulated Navigation Area (RNA). The Savannah River between Fort Jackson (32°04.93′ N, 081°02.19′ W) and the Savannah River Channel Entrance Sea Buoy is a regulated navigation area when an LNG tankship in excess of heel is transiting the area or moored at the LNG facility. All coordinates are North American Datum 1983.

(b) Definitions. The following definitions apply to this section:

Bare Steerage Way means the minimum speed necessary for a ship to maintain control over its heading.

Bollard pull means an industry standard used for rating tug capabilities and is the pulling force imparted by the tug to the towline. It means the power that an escort tug can apply to its working line(s) when operating in a direct mode.

Direct Mode means a towing technique defined as a method of operation by which a towing vessel generates towline forces by thrust alone at an angle equal to or nearly equal to the towline, or thrust forces applied directly to the escorted vessel's hull.

Fire Wire means a length of wire rope or chain hung from the bow and stern of a vessel in port to allow the vessel to be towed away from the pier in case of fire; also called fire warp or emergency towing wire.

Heel means the minimum quantity of liquefied natural gas (LNG) retained in an LNG tankship after unloading at the LNG facility to maintain temperature, pressure, and/or prudent operations. A quantity of LNG less than five percent (5 %) of the LNG tankship's carrying capacity shall be presumed to be heel.

Indirect Mode means a towing technique defined as a method of operation by which an escorting towing vessel generates towline forces by a combination of thrust and hydrodynamic forces resulting from a presentation of the underwater body of the towing vessel at an oblique angle to the towline. This method increases the resultant bollard pull, thereby arresting and controlling the motion of an escorted vessel.

LNG tankship means a vessel as described in 46 CFR 154.

Made-up means physically attached by cable, towline, or other secure means in such a way as to be immediately ready to exert force on a vessel being escorted.

Make-up means the act of, or preparations for becoming made-up.

Operator means the person who owns, operates, or is responsible for the operation of a facility or vessel.

Savannah River Channel Entrance Sea Buoy means the aid to navigation labeled R W “T” Mo (A) WHIS on the National Oceanic and Atmospheric Administration's (NOAA) Nautical Chart 11512.

Standby means readily available at the facility and equipped to provide a ready means of assistance to maintain a safe zone around LNG tankships, provide emergency firefighting assistance, and aid the LNG tankship in the event of an emergency departure.

Underway means that a vessel is not at anchor, not made fast to the shore, or not aground.

(c) Applicability. This section applies to all vessels operating within the RNA, including naval and other public vessels, except vessels that are engaged in the following operations:

(1) Law enforcement, security, or search and rescue;

(2) Servicing aids to navigation;

(3) Surveying, maintenance, or improvement of waters in the RNA; or

(4) Actively engaged in escort, maneuvering, or support duties for an LNG tankship.

(d) Regulations—(1) Requirements for vessel operations while a LNG tankship, carrying LNG in excess of heel, is underway within the RNA. (i) Except for a vessel that is moored at a marina, wharf, or pier, and remains moored, no vessel 1,600 gross tons or greater may come within two nautical miles of a LNG tankship, carrying LNG in excess of heel, which is underway within the Savannah River shipping channel without the permission of the Captain of the Port (COTP).

(ii) All vessels less than 1,600 gross tons shall keep clear of transiting LNG tankships.

(iii) The owner, master, or operator of a vessel carrying liquefied natural gas (LNG) shall:

(A) Comply with the notice requirements of 33 CFR part 160. The COTP may delay the vessel's entry into the RNA to accommodate other commercial traffic.

(B) Obtain permission from the COTP before commencing the transit into the RNA.

(C) Not enter or get underway within the RNA if visibility during the transit is not sufficient to safely navigate the channel, and/or wind speed is, or is expected to be, greater than 25 knots.

(D) While transiting the RNA, the LNG tankship, carrying LNG in excess of heel, shall have a minimum of two escort towing vessels with a minimum of 100,000 pounds of bollard pull, 4,000 horsepower and capable of safely operating in the indirect mode. At least one of the towing vessels shall be FiFi Class 1 equipped.

(2) Requirements while an LNG tankship is moored outside of the LNG facility slip—(i) An LNG tankship moored outside of the LNG facility slip shall have on-scene a minimum of two escort towing vessels each with a minimum of 100,000 pounds of bollard pull, 4,000 horsepower and capable of safely operating in the indirect mode in order to escort transiting vessels 1,600 gross tons or greater past the moored LNG tankship. At least one of these towing vessels shall be FiFi Class 1 equipped.

(ii) In addition to the two towing vessels required by paragraph (d)(2)(i) of this section, the LNG tankship moored outside of the slip shall have at least one standby towing vessel with a minimum of 90,000 pounds of bollard pull to take appropriate actions in an emergency as directed by the LNG vessel bridge watch required in paragraph (d)(5) of this section.

(3) Requirements while LNG tankships are moored inside the LNG facility slip—(i) An LNG tankship moored inside the LNG facility slip shall have two standby towing vessels with a minimum capacity of 100,000 pounds of bollard pull, 4,000 horsepower, and the ability to operate safely in the indirect mode. At least one of these towing vessels shall be FiFi Class 1 equipped. The standby towing vessels shall take appropriate action in an emergency as directed by the LNG vessel bridge watch required in paragraph (d)(5) of this section.

(ii) If two LNG tankships are moored inside the LNG facility slip, each vessel shall provide a standby towing vessel that is FiFi class 1 equipped with a minimum capacity of 100,000 pounds of bollard pull and 4,000 horsepower that is available to assist as directed by the LNG vessel bridge watch required in paragraph (d)(5) of this section.

(4) Requirements while LNG tankships are moored both inside the LNG facility slip and outside the LNG facility slip—(i) When one LNG tankship is moored inside and one LNG tankship is moored outside of the LNG facility slip, the LNG tankship moored outside of the LNG facility slip shall have on-scene a minimum of two escort towing vessels each with a minimum of 100,000 pounds of bollard pull, 4,000 horsepower and capable of safely operating in the indirect mode in order to escort transiting vessels 1,600 gross tons or greater past the moored LNG tankship. At least one of these towing vessels shall be FiFi Class 1 equipped. In addition, the LNG tankship moored inside of the slip shall have at least one standby towing vessel with a minimum of 100,000 pounds of bollard pull, 4,000 horsepower and FiFi Class 1 equipped to take appropriate actions in an emergency as directed by the LNG vessel bridge watch required in paragraph (d)(5) of this section.

(ii) When one LNG tankship is moored outside and two LNG tankships are moored inside the LNG facility slip, the LNG tankship moored outside of the LNG facility slip shall have on-scene a minimum of two escort towing vessels each with a minimum of 100,000 pounds of bollard pull, 4,000 horsepower and capable of safely operating in the indirect mode in order to escort transiting vessels 1,600 gross tons or greater past the moored LNG tankship. At least one of these towing vessels shall be FiFi Class 1 equipped. In addition, the LNG tankships moored inside of the slip shall have at least one standby towing vessel between the two ships with a minimum of 100,000 pounds of bollard pull, 4,000 horsepower and FiFi Class 1 equipped to take appropriate actions in an emergency as directed by the LNG vessel bridge watch required in paragraph (d)(5) of this section.

(iii) In the event of an actual emergency, escort towing vessels can be utilized as stand-by towing vessels to take appropriate actions as directed by the LNG vessel bridge watch required in paragraph (d)(5) of this section.

(5) Requirements for moored LNG tankships—(i) While moored within the RNA, each LNG tankship shall maintain a bridge watch consisting of a docking pilot or licensed deck officer who shall monitor all vessels transiting past the LNG facility. In addition, the LNG Bridge Watch shall communicate with the pilots of vessels greater than 1600 gross tons at the points identified in section (d)(6)(iii) of this section prior to passing the LNG facility in order to take actions of the towing vessel(s) required in paragraphs (d)(2) through (4) of this section.

(ii) While moored within the RNA, LNG tankships shall have emergency towing wires (fire wires) positioned one meter above the waterline, both on the off-shore bow and quarter of the ship. LNG vessels equipped with waterline bollards are exempt from this requirement.

(6) Requirements for other vessels while within the RNA—(i) Transiting vessels 1,600 gross tons or greater, when passing an LNG tankship moored outside of the LNG facility slip, shall have a minimum of two towing vessels with a minimum capacity of 100,000 pounds of bollard pull, 4,000 horsepower, and the ability to operate safely in the indirect mode, made-up in such a way as to be immediately available to arrest and control the motion of an escorted vessel in the event of steering, propulsion or other casualty. At least one of the towing vessels shall be FiFi Class 1 equipped. While it is anticipated that vessels will utilize the towing vessel services required in paragraphs (d)(2)(i) and (d)(4)(i) of this section, this section does not preclude escorted vessel operators from providing their own towing vessel escorts, provided they meet the requirements of this part.

(A) Outbound vessels shall be made-up and escorted from Bight Channel Light 46 until the vessel is safely past the LNG dock.

(B) Inbound vessels shall be made-up and escorted from Elba Island Light 37 until the vessel is safely past the LNG dock.

(ii) The requirements in paragraph (d)(6)(i) of this section do not apply when one or more LNG tankships are moored in the LNG facility slip and no LNG tankship is moored at the pier outside of the LNG facility slip.

(iii) Vessels 1,600 gross tons or greater shall make a broadcast on channel 13 at the following points on the Savannah River:

(A) Buoy “33” in the vicinity of Fields Cut for inbound vessels;

(B) Buoy “53” in the vicinity of Fort Jackson for outbound vessels.

(iv) Vessels 1,600 gross tons or greater shall at a minimum, transit at bare steerageway when within an area 1,000 yards on either side of the LNG facility slip to minimize potential wake or surge damage to the LNG facility and vessel(s) within the slip.

(v) Vessels 1,600 gross tons or greater shall not meet nor overtake within an area 1,000 yards on either side of the LNG facility slip when an LNG tankship is present within the slip.

(vi) All vessels less than 1,600 gross tons shall not approach within 70 yards of an LNG tankship, carrying LNG in excess of heel, without the permission of the Captain of the Port.

(vii) Except for vessels involved in those operations noted in paragraph (c) of this section entitled Applicability, no vessel shall enter the LNG facility slip at any time without the permission of the Captain of the Port.

(e) Waivers. (1) The COTP may waive any requirement in this section, if the COTP finds that it is in the best interest of safety or in the interest of national security. Such waivers may be verbal or in writing.

(2) An application for a waiver of these requirements must state the compelling need for the waiver and describe the proposed operation and methods by which adequate levels of safety are to be obtained.

(f) Enforcement. Violations of this section should be reported to the Captain of the Port, Savannah, at (912) 652-4353. In accordance with the general regulations in § 165.13 of this part, no person may cause or authorize the operation of a vessel in the regulated navigation area contrary to the provisions of this section.

Dated: January 5, 2007.
D. W. Kunkel,
Rear Admiral, U.S. Coast Guard, Commander, Seventh Coast Guard District.

[FR Doc. E7-728 Filed 1-18-07; 8:45 am]

BILLING CODE 4910-15-P